DEPARTMENT OF AGRICULTURE

Submission for OMB Review; Comment Request

January 21, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: Broadband Initiatives Program.

OMB Control Number: 0572-0142.

Summary of Collection: The American Recovery and Reinvestment Act of 2009 (Recovery Act) appropriated $2.5 billion of budget authority for establishing the Broadband Initiatives Program (BIP). The Rural Utilities Service (RUS) is establishing the BIP which may extend loans, grants, and loan/grant combinations to facilitate broadband deployment in rural areas.

Need and Use of the Information: Each applicant for a loan, grant, or loan/grant combination will complete one application form. The information in the application will be used to determine: applicant eligibility, availability of broadband service, technical and economic feasibility of the proposed project (that the funds requested are adequate to complete the project taking into consideration any additional funding provided by the applicant and that the loan can be repaid within the allowable time frame), and applicant compliance with certain Federal regulations and requirements. Without the requested information, RUS could not make awards consistent with the purposes of the Recovery Act. RUS also could not determine whether applicants meet the requirements that the Recovery Act establishes for BIP financing.

Description of Respondents: Business or other for-profit.

Number of Respondents: 1,800.

Frequency of Responses: Reporting: Quarterly; Annually; On occasion.

Total Burden Hours: 631,272.

Charlene Parker,
Departmental Information Collection Clearance Officer.

[FR Doc. 2010-1542 Filed 1-26-10; 8:45 am]

BILLING CODE 3410-15-P